DEPARTMENT OF THE INTERIOR

Fish and Wildlife Service

Information Collection To Be Submitted to the Office of Management and Budget (OMB) for Approval Under the Paperwork Reduction Act; Marking, Tagging, and Reporting Program for Polar Bear, Pacific Walrus, and Sea Otter

AGENCY: Fish and Wildlife Service, Interior.

ACTION: Notice; request for comments.

SUMMARY: We, the U.S. Fish and Wildlife Service, will submit to OMB the collection of information described below for approval and renewal under the provisions of the Paperwork Reduction Act of 1995. Copies of specific information collection requirements, related forms, and explanatory material may be obtained by contacting our Information Collection Officer at the address or phone number listed below.

DATES: You must submit comments on or before June 29, 2004.

ADDRESSES: Your comments and suggestions on specific requirements should be sent to our Information Collection Clearance Officer, Anissa Craghead, U.S. Fish and Wildlife Service, 4401 N. Fairfax Dr., MS 222, Arlington, VA 22203, telephone 703/358-2445, fax 703/358-2269.

FOR FURTHER INFORMATION CONTACT: Colleen Corrigan, Division of Habitat and Resource Conservation, Branch of Resource Management Support, Arlington, Virginia, at 703/358-2161, or Dean Cramer, Office of Marine Mammals Management, Anchorage, Alaska, at 907/786-3806.

SUPPLEMENTARY INFORMATION: OMB regulations at 5 CFR part 1320, which implement provisions of the Paperwork Reduction Act of 1995 (44 U.S.C. 3501 et seq.), require that interested members of the public and affected agencies be given an opportunity to comment on information collection and record keeping activities (see 5 CFR 1320.8(d)). We are submitting a request to OMB to renew its approval of a collection of information concerning marking, tagging, and reporting requirements for the take of polar bear, northern sea otter, and pacific walrus. We are requesting a three-year term of approval for this information collection activity. Federal agencies may not conduct or sponsor, and a person is not required to respond to, a collection of information unless it displays a currently valid OMB control number. The OMB control number for this collection of information is 1018-0066.

In October 1988, pursuant to provisions of section 109(i) of the Marine Mammal Protection Act (MMPA) of 1972, as amended (16 U.S.C. 1361-1407), we implemented formal Marking, Tagging, and Reporting Regulations in 50 CFR 18.23(f) for Alaskan Natives harvesting polar bear (Ursus maritimus), northern sea otter (Enhydra lutris kenyoni), and Pacific walrus (Odobenus rosmarus divergens) in Alaska. Under section 101(b) of the MMPA, Alaskan Natives residing in Alaska and dwelling on the coast of the North Pacific or Arctic Oceans may harvest these species for subsistence or handicraft purposes. Section 109(i) of the MMPA authorizes us, acting on behalf of the Secretary of the Interior, to prescribe marking, tagging, and reporting regulations applicable to this Alaskan Native subsistence and handicraft take.

On June 28, 1988, under authority of section 109(i) of the MMPA, we published a final rule in the Federal Register (53 FR 24277) that added paragraph (f) to our marine mammal regulations at 50 CFR 18.23. These regulations have enabled us to gather data on the Alaskan Native subsistence and handicraft harvest, and on the biology of polar bear, northern sea otter, and Pacific walrus in Alaska in order to determine what effect such take may be having on these populations. The regulations have also provided us with a means of monitoring the disposition of the harvest to ensure that any commercial use of products created from these species meets the criteria set forth in section 101(b) of the MMPA.

The information that we propose to continue to collect from Alaskan Natives beyond the currently authorized period that expires on October 31, 2004 (under OMB Clearance Number 1018-0066), will be used to improve our decision-making ability upon which we can base future management decisions. Further, it will provide us with the ability to make inferences about the condition and general health of these populations. Without authority to collect this harvest information, our ability to measure the take of polar bear, sea otter and walrus is inadequate. We believe that mandatory marking, tagging and reporting is essential for us, in concert with Alaskan Natives, to be able to improve the quality and quantity of harvest and biological data necessary to base future management decisions and allows us to make rational, knowledgeable decisions regarding the Alaskan Native harvest.

We estimate that the total annual burden associated with this request will be 639 hours for each year of the 3-year period of OMB authorization. We calculated this estimated burden based on previous experience suggesting that Alaskan Natives annually will take a combined total of approximately 2,556 polar bears, northern sea otter, and Pacific walrus for subsistence and handicraft purposes, and that 15 minutes will be needed to provide the required information for each animal taken.

Title: Marine Mammal Marking, Tagging, and Reporting Certificates, 50 CFR 18.23 (f).

OMB Control Number: 1018-0066.

Bureau form numbers: R7-50, R7-51, and R7-52.

Frequency of collection: Occasional.

Description of respondents: Individuals and households.

Annual number of respondents: Approximately 2,556.

Estimated completion time: 15 minutes per response.

Total annual burden hours: 639 hours.

Approval expires: October 31, 2004.

Your comments are invited on: (1) Whether this collection of information is necessary for us to properly perform our functions, including whether this information will have practical utility; (2) the accuracy of our estimate of burden, including the validity of the methodology and assumptions we use; (3) ways to enhance the quality, utility, and clarity of the information we are proposing to collect; and (4) ways to minimize the burden of the collection of information on those who are to respond, including through the use of appropriate automated, electronic, mechanical, or other technological collection techniques or other forms of information technology.

Dated: April 26, 2004.
Anissa Craghead,
Information Collection Officer, U.S. Fish and Wildlife Service.

[FR Doc. 04-9785 Filed 4-29-04; 8:45 am]

BILLING CODE 4310-55-P